FEDERAL COMMUNICATIONS COMMISSION

Notice of Public Information Collection(s) Being Reviewed by the Federal Communications Commission

August 27, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a current valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 4, 2002. If you anticipate that you will be submitting comments, but find it difficult to do so within the period of time allowed by this notice, you should advise the contact listed below as soon as possible.

ADDRESSES: Direct all comments to Les Smith, Federal Communications Commission, Room 1-A804, 445 12th Street, SW., Washington, DC 20554, or via the Internet to lesmith@fcc.gov.

FOR FURTHER INFORMATION CONTACT: For additional information or copies of the information collection(s) contact Les Smith at 202-418-0217 or via the Internet at lesmith@fcc.gov.

SUPPLEMENTARY INFORMATION: OMB Control Number: 3060-0419.

Title: Syndicated Exclusivity and Network Non-Duplication Rights.

Form Number: N/A.

Type of Review: Revision of a currently approved collection.

Respondents: Business and other for-profit entities.

Number of Respondents: 5,555.

Estimated Time per Response: 0.5 to 2.0 hours.

Frequency of Response: One-time reporting requirements; Third party disclosure.

Total Annual Burden: 182,552 hours.

Total Annual Costs: $192,000.

Needs and Uses: Commission rules require television stations, broadcast television stations, and program distributors to notify cable television system operators of non-duplication protection and exclusivity rights being sought within prescribed limitations and terms of contractual agreements. These various notification and disclosure requirements are to protect broadcasters who purchase the exclusive rights to transmit syndicated programming in their recognized markets.

OMB Control Number: 3060-0960.

Title: Application of Network Non-Duplication, Syndicated Exclusivity, and Sports Blackout Rules to Satellite Retransmissions.

Form Number: N/A.

Type of Review: Revision of a currently approved collection.

Respondents: Business and other for-profit entities.

Number of Respondents: 1,407.

Estimated Time per Response: 0.5 to 1.0 hours.

Frequency of Response: On occasion reporting requirements; Third party disclosure.

Total Annual Costs: None.

Needs and Uses: On October 27, 2000, the Commission adopted rules to implement the network non-duplication, syndicated exclusivity, and sports blackout provisions of the Satellite Home Viewer Improvement Act of 1999. The various notification and disclosure requirements are intended to protect exclusive rights negotiated between broadcasters, distributors, and rights holders for transmission of network, syndicated, and sports programming in the broadcaster's recognized market area.

OMB Control Number: 3060-1002.

Title: Cable Horizontal and Vertical Ownership Information Collection.

Form Number: N/A.

Type of Review: Extension of currently approved collection.

Respondents: Business or other for-profit entities.

Number of Respondents: 146.

Estimated Time per Response: 30 mins. (0.5 hrs.).

Frequency of Response: One-time reporting requirement.

Total Annual Burden: 162 hours.

Total Annual Costs: None.

Needs and Uses: Under Section 613(f) of the Communications Act of 1934, as amended by the Cable Television Consumer Protection and Competition Act of 1992, the FCC is directed to establish reasonable limits on the number of subscribers that may be reached through cable operators' owned or affiliated cable systems and on the number of channels that can be occupied by cable operators' owned or affiliated programming networks. This information collection will assist the Commission in its rulemaking proceeding revising these rules consistent with a court remand and reversal of previous rules.

Federal Communications Commission.
Marlene Dortch,
Secretary.

[FR Doc. 02-22509 Filed 9-3-02; 8:45 am]

BILLING CODE 6712-10-P